DEPARTMENT OF HEALTH AND HUMAN SERVICES

Centers for Disease Control and Prevention

[30Day-25-0234]

Agency Forms Undergoing Paperwork Reduction Act Review

In accordance with the Paperwork Reduction Act of 1995, the Centers for Disease Control and Prevention (CDC) has submitted the information collection request titled “National Ambulatory Medical Care Survey (NAMCS)” to the Office of Management and Budget (OMB) for review and approval. CDC previously published a “Proposed Data Collection Submitted for Public Comment and Recommendations” notice on September 20, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Ambulatory Medical Care Survey (NAMCS) (OMB Control No. 0920-0234, Exp. 11/30/2025)—Revision—National Center for Health Statistics (NCHS), Centers for Disease Control and Prevention (CDC).

Background and Brief Description

The National Ambulatory Medical Care Survey (NAMCS) was conducted intermittently from 1973 through 1985, and annually since 1989. The survey is conducted under authority of Section 306 of the Public Health Service Act (42 U.S.C. 242k). NAMCS is part of the Ambulatory Care Component of the National Health Care Surveys (NHCS), a family of provider-based surveys that capture health care utilization from a variety of settings, including hospital inpatient and long-term care facilities. NHCS surveys of health care providers include NAMCS, the National Electronic Health Records Survey (NEHRS, OMB Control No. 0920-1015), the National Hospital Care Survey (OMB Control No. 0920-0212), and the National Post-acute and Long-term Care Study (OMB Control No. 0920-0943).

An overarching purpose of NAMCS is to meet the needs and demands for statistical information about the provision of ambulatory medical care services in the United States. This fulfills one of NCHS missions; to monitor the nation's health. In addition, NAMCS provides ambulatory medical care data to study: (1) the performance of the U.S. health care system; (2) care for the rapidly aging population; (3) changes in services such as health insurance coverage change; (4) the introduction of new medical technologies; and (5) the use of electronic health records (EHRs). Ongoing societal changes have led to considerable diversification in the organization, financing, and technological delivery of ambulatory medical care. This diversification is evidenced by the proliferation of insurance and benefit alternatives for individuals, the development of new forms of physician group practices and practice arrangements (such as office-based practices owned by hospitals), the increasing role of advanced practice providers delivering clinical care, and growth in the number of alternative sites of care.

Ambulatory services are rendered in a wide variety of settings, including physician/provider offices and hospital outpatient and emergency departments. Since more than 65% of ambulatory medical care visits occur in physician offices, NAMCS provides data on the majority of ambulatory medical care services. In addition to health care provided in physician offices and outpatient and emergency departments, health centers (HCs) play an important role in the health care community by providing care to people who might not be able to afford it otherwise. HCs are local, non-profit, community-owned health care settings, which serve approximately over 30 million individuals throughout the United States.

This Revision seeks approval to conduct changes to all three components of NAMCS. We plan to adjust the HC Component and Provider Survey Component sample sizes. In 2025 the goal is to sample 10,000 advanced practice providers and up to 151 HCs. In 2026 CDC plans to sample up to 10,000 physicians and up to 171 HCs. Lastly, if funds allow, in 2027 we will sample up to 10,000 advanced practice providers and up to 191 HCs. For 2025-2027, there will be an additional 3,000 providers sampled yearly for the Provider Electronic Component. Additionally, questions on the Provider Facility Interview, Health Center Facility Interview and the Ambulatory Care Provider Interview will be modified. CDC requests OMB approval for an estimated annual 22,107 burden hours. There is no cost to respondents other than their time.

Estimated Annualized Burden Hours
Type of respondents | Form name | Number of respondents | Number of responses per respondent | Avg. burden per response (in hrs.)
HC's Staff | HC Facility Interview Questionnaire (Survey year: 2024) | 84 | 1 | 45/60
| Prepare and transmit EHR for Visit Data (quarterly) (Survey year: 2024) | 50 | 4 | 60/60
| Set-up Fee Questionnaire (Survey year: 2024) | 17 | 1 | 15/60
Provider or Staff | ACPI (Survey year: 2026) | 3,333 | 1 | 30/60
| Contact Tracing (Survey year: 2026) | 3,333 | 1 | 10/60
Advanced Practice Provider or Staff | ACPI (Survey year: 2025 & 2027) | 6,667 | 1 | 30/60
| Contact Tracing (Survey year: 2025 & 2027) | 6,667 | 1 | 10/60
Ambulatory Care Provider's or Group's or Conglomerate's Staff | PFI (Survey year: 2025-2027) Prepare and transmit Electronic Visit Data (quarterly) (Survey year: 2025-2027) | 3000 3000 | 1 4 | 45/60 60/60
HC's Staff | HC Facility Interview Questionnaire (Survey year: 2025-2027) | 221 | 1 | 45/60
| Prepare and transmit EHR for Visit Data (quarterly) (Survey year: 2025-2027) | 188 | 4 | 60/60
| Set-up Fee Questionnaire (Survey year: 2025-2027) | 17 | 1 | 15/60

Jeffrey M. Zirger,
Lead, Information Collection Review Office, Office of Public Health Ethics and Regulations, Office of Science, Centers for Disease Control and Prevention.

[FR Doc. 2024-30480 Filed 12-19-24; 8:45 am]

BILLING CODE 4163-18-P